COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/20/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 5/18/2012 (77 FR 29596) and 5/25/2012 (77 FR 31335-31336), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Striking Tools

NSN: 5120-00-NIB-0001—Hammer—2 lb, Engineer's, 16″ Fiberglass Handle

NSN: 5120-00-NIB-0002—Hammer—3 lb, Engineer's, 16″ Fiberglass Handle

NSN: 5120-00-NIB-0003—Hammer—4 lb, Engineer's, 16″ Fiberglass Handle

NSN: 5120-00-NIB-0004—Hammer—3 lb, Drilling, 10.5″ Fiberglass Handle

NSN: 5120-00-NIB-0005—Hammer—4 lb, Drilling, 10.5″ Fiberglass Handle

NSN: 5120-00-NIB-0006—Axe—3.5 lb, Michigan Style, Single Bit, 36″ Fiberglass Handle

NSN: 5120-00-NIB-0007—Axe—3.5 lb, Michigan Style, Double Bit, 36″ Fiberglass Handle

NSN: 5120-00-NIB-0008—Hammer—16 lb, Sledge, Double Faced, 36″ Fiberglass Handle

NSN: 5120-00-NIB-0010—Hammer—20 lb, Sledge, Double Faced, 36″ Fiberglass Handle

NSN: 5120-00-NIB-0011—Splitting Maul—6 lb, Sledge Eye, 36″ Fiberglass Handle

NSN: 5120-00-NIB-0012—Splitting Maul—8 lb, Sledge Eye, 36″ Fiberglass Handle

NSN:: Keystone Vocational Services, Inc., Sharon, PA

Contracting Activity: General Services Administration, Kansas City, MO

Extreme Cold Weather Sleeping Bag (ECW)

NSN: 8415-MD-001-0270—Module, Extreme Cold Weather Sleeping Bag (ECW M) U.S. Marine Corps, One size fits all

NSN: 8415-MD-001-0267—Bag, Sleeping, Outer, Extreme Cold Weather (ECW OSB) U.S. Marine Corps, One size fits all

NSN:: ReadyOne Industries, Inc., El Paso, TX

Contracting Activity: Dept of the Army, W6QK ACC-APG Natick, Natick, MA

Coverage: C-List for 100% of the requirement of the U.S. Marine Corps, as aggregated by the Army Contracting Command—Aberdeen Proving Ground, Natick Contracting Division, Natick MA.

Comments were received from a small business apparel manufacturer contractor and a law firm on behalf of another apparel manufacturer contractor. Through the comments, the contractors oppose adding this product to the Procurement List. The first contractor is a small business that produces similar items for the Department of Defense (DoD), and stated its sales to DoD have dropped significantly. This contractor believes that the loss of opportunities for small business will result in a reduced supply base for DoD. The second contractor is a small HUBZone certified concern located in an area with high unemployment. This contractor also manufactures similar products, comprising the majority of its sales, for DoD, and subcontracts/purchases supplies from other small business concerns in the area. The firm stated it has a relationship with a local agency that provides services for people with severe disabilities where the contractor subcontracts some work to the agency and has designed, built and donated machinery to the agency. The contractor indicates that it would pursue this opportunity if available through a competitive procurement.

In considering whether to add products or services to the Procurement List, the Committee operates in accordance with applicable statutes and regulations. By regulation, the Committee considers whether the addition is likely to have a severe adverse impact on the current contractor. In this instance, both contractors submitting comments confirm that they are not current contractors, that they only manufacture similar products. The product at issue in this addition is a new product developed with full cooperation of the contracting activity, which demonstrates that the supply base issue was considered. The Committee does not view the loss of the opportunity to bid on new work to constitute severe financial impact, as there is no guarantee that a particular offeror would be successful. Accordingly, it is appropriate that the Committee consider this product for addition to the Procurement List.

NSN: 1670-01-598-5067—Containerized Unitized Bulk Equipment (CUBE) Lifeliner, Water Kit

NSN: 1670-01-598-5071—Containerized Unitized Bulk Equipment (CUBE) Lifeliner, Fuel Kit

NPA: Peckham Vocational Industries, Inc., Lansing, MI

Contracting Activity: Dept of the Army, W6QK ACC-APG Natick, Natick, MA

Coverage: C-List for 100% of the requirement of the Department of the Army, as aggregated by the Army Contracting Command—Aberdeen Proving Ground, Natick Contracting Division, Natick MA.

Services

Service Type/Location: Laundry Service, Veterans Administration Medical Center (VAMC), (offsite: 1809 W 2nd Avenue, Indianola, IA), 601 Highway 6 West, Iowa City, IA

NPA: Genesis Development, Jefferson, IA

Contracting Activity: Department of Veterans Affairs, Nebraska Western-Iowa Health Care System, Omaha, NE

Service Type/Location: Laundry and Dry Cleaning Service, Buckley AFB Lodging & Medical Facilities, Buckley AFB, CO

NPA: Goodwill Industrial Services Corporation, Colorado Springs, CO

Contracting Activity: Dept. of the Air Force, FA2543 460 CONS LGC, Buckley AFB, CO

Barry S. Lineback,
Director, Business Operations.

[FR Doc. 2012-17706 Filed 7-19-12; 8:45 am]

BILLING CODE 6353-01-P